DEPARTMENT OF LABOR

Employment and Training Administration

[NAFTA-4523]

York International Corporation Portland, Oregon; Notice of Negative Determination Regarding Application for Reconsideration

By application dated June 26, 2001, the Sheet Metal Workers' International Association, Local Union No. 16, requested administrative reconsideration of the Department's negative determination regarding eligibility to apply for North American Free Trade Agreement-Transitional Adjustment Assistance (NAFTA-TAA), applicable to workers and former workers of the subject firm. The denial notice was signed on June 7, 2001, and was published in the Federal Register on June 27, 2001 (66 FR 34257).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or the law justified reconsideration of the decision.

The denial of NAFTA-TAA for workers engaged in activities related to the production of custom air handling systems at York International Corporation, Portland, Oregon, was based on the finding that criteria (3) and (4) of the group eligibility requirements of paragraph (a)(1) of section 250 of the Trade Act, as amended, were not met. There were no company imports of custom air handling systems from Mexico or Canada, nor did York International Corporation shift production from Portland, Oregon to Mexico or Canada. Major customers did not reduce their purchases from the subject firm.

The petitioner alleges that competitors of the subject plant import products like and directly with what the subject plant produced from Canada and Mexico. The Department normally analyzes the impact of imports on the subject firm workers through a survey of declining customers to examine if the firm's domestic customers switched purchases from the subject firm in favor of foreign produced products during the relevant period. There were no subject firm customers' sales declines during the relevant period. Therefore, any imports from Canada or Mexico are not a major contributing factor to the worker separations at the subject plant.

Conclusion

After review of the application and investigative findings, I conclude that there has been no error or misinterpretation of the law or of the facts which would justify reconsideration of the Department of Labor's prior decision. Accordingly, the application is denied.

Signed at Washington, DC this 6th day of November 2001.
Edward A. Tomchick,
Director, Division of Trade Adjustment Assistance.

[FR Doc. 01-30064 Filed 12-4-01; 8:45 am]

BILLING CODE 4510-30-M